DEPARTMENT OF COMMERCE

National Oceanic and Atmospheric Administration

[I.D. 112906B]

Endangered Species; File No. 1570

AGENCY: National Marine Fisheries Service (NMFS), National Oceanic and Atmospheric Administration (NOAA), Commerce.

ACTION: Notice; issuance of permit.

SUMMARY: Notice is hereby given that the Southeast Fisheries Science Center (SEFSC), NMFS, 75 Virginia Beach Drive, Miami, Florida 33149, has been issued a permit to take green (Chelonia mydas), loggerhead (Caretta caretta), Kemp's ridley (Lepidochelys kempii), hawksbill (Eretmochelys imbricata), olive ridley (Lepidochelys olivacea), and leatherback (Dermochelys coriacea) sea turtles for purposes of scientific research.

ADDRESSES: The permit and related documents are available for review upon written request or by appointment in the following office(s):

Permits, Conservation and Education Division, Office of Protected Resources, NMFS, 1315 East-West Highway, Room 13705, Silver Spring, MD 20910; phone (301)713-2289; fax (301)427-2521;Southeast Region, NMFS, 263 13th Ave South, St. Petersburg, FL 33701; phone (727)824-5312; fax (727)824-5309.

FOR FURTHER INFORMATION CONTACT: Patrick Opay or Carrie Hubard, (301)713-2289.

SUPPLEMENTARY INFORMATION: On July 18, 2006, notice was published in the Federal Register (71 FR 40700) that a request for a scientific research permit to take green, loggerhead, Kemp's ridley, olive ridley, hawksbill, and leatherback sea turtles had been submitted by the above-named organization. The requested permit has been issued under the authority of the Endangered Species Act of 1973, as amended (ESA; 16 U.S.C. 1531 et seq.) and the regulations governing the taking, importing, and exporting of endangered and threatened species (50 CFR parts 222-226).

The research will evaluate modifications to commercial fishing gear to mitigate sea turtle interactions and capture. These evaluations and subsequent gear modifications will help to reduce incidental turtle bycatch in the gear types studied. By assessing those animals incidentally captured, the research will also provide new data to improve stock assessments, assess the impact of anthropogenic activities, better manage and, ultimately, recover these species. The research will take up to 253 loggerhead, 101 Kemp's ridley, 112 leatherback, 51 green, 37 hawksbill, 36 olive ridley sea turtles, and 88 unidentified hardshell species (e.g., a turtle that escaped from the gear before identification could be made) annually. A total of up to 3 loggerhead, 2 Kemp's ridley, 2 green, 1 leatherback, 1 hawksbill, and 1 olive ridley sea turtle may be taken lethally over the course of the permit. Animals would be handled, measured, weighed, photographed, flipper tagged, passive integrated transponder tagged, skin biopsied, and released. A subset of these animals would be captured by trawl research authorized by the permit. The research will take place in waters of the Atlantic Ocean, Gulf of Mexico, Caribbean Sea and their tributaries. The permit was issued for 5 years.

Issuance of this permit, as required by the ESA, was based on a finding that such permit (1) was applied for in good faith, (2) will not operate to the disadvantage of any endangered or threatened species, and (3) is consistent with the purposes and policies set forth in section 2 of the ESA.

Dated: December 1, 2006.
P. Michael Payne,
Chief, Permits, Conservation and Education Division, Office of Protected Resources, National Marine Fisheries Service.

[FR Doc. E6-20764 Filed 12-6-06; 8:45 am]

BILLING CODE 3510-22-S